SMALL BUSINESS ADMINISTRATION

Region I Hartford District Advisory Council; Public Meeting

The U.S. Small Business Administration, Region I Hartford, Connecticut District Advisory Council, will hold a public meeting on Monday, April 2, 2001, at 8:30 a.m. at the Connecticut District Office, 330 Main Street, Hartford, Connecticut 06106, to discuss such matters as may be presented by members, staff of the U.S. Small Business Administration or others present. For further information, write or call Ms. Marie Record, District Director, U.S. Small Business Administration, 330 Main Street, Hartford, Connecticut, telephone (860) 240-4700.

Nancyellen Gentile,
Committee Management Officer.

[FR Doc. 01-6861 Filed 3-19-01; 8:45 am]

BILLING CODE 8025-01-U